ENVIRONMENTAL PROTECTION AGENCY

[ER-FRL-6609-8]

Environmental Impact Statements and Regulations; Availability of EPA Comments

Availability of EPA comments prepared pursuant to the Environmental Review An explanation of the ratings assigned to draft environmental impact statements (EISs) was published in FR dated April 14, 2000 (65 FR 20157).

Draft EISs

ERP No. D-AFS-J65300-CO Rating LO, Upper Blue Stewardship Project, Implementation of Vegetation Management, Travel Management, Designation of Dispersed Camping Sites, White River National Forest, Dillon Ranger District, Summit County, CO.

Summary: Based on a limited review, EPA does not foresee having any environmental objections to the proposed project.

ERP No. D-AFS-J65324-WY Rating EC2, State of Wyoming School Section 16 T.12N., R.83W., 6th P.M., Issuing a Forest Road Special-Use-Permit for Access, Medicine Bow-Routt National Forests, Brush Creek/Hayden Ranger District, Carbon County, WY.

Summary: EPA expressed concerns about potential impacts on fisheries, threatened/endangered species and the roadless character of the land.

ERP No. D-AFS-J67028-MT Rating LO, Rocky Mountain Front Mineral Withdrawal, Implementation, Helena and Lewis and Clark National Forests, Great Falls, MT.

Summary: EPA has no objection to the action as proposed.

ERP No. D-AFS-L65358-ID Rating EC2, Starbucky Restoration Project, Implementation of Vegetative Treatment, Road Construction and Watershed Improvements, Nez Perce National Forest, Red River Ranger District, Idaho County, ID.

Summary: EPA expressed concerns regarding potential for sediment entering Santiam and Buckhorn Creeks; probability of intrusions into Buckhorn watershed riparian zone by off-road vehicles; uncertainty of whether restoration projects would receive funding; and degradation from possible mine exploration activities in the watersheds. The EPA requested that these concerns be addressed in final EIS and ROD.

ERP No. D-BIA-L65352-WA Rating EC2, Colville Indian Reservation Integrated Resource Management Plan, Implementation, Colville Indian Reservation, Okanogan and Ferry Counties, WA.

Summary: EPA expressed concern that there appeared to be no clear NEPA process for use on projects that would tier off this document. EPA requested that the final document discuss the tiered NEPA process and also include additional information on potential air and water quality issues.

ERP No. D-FHW-H40169-MO Rating LO, US Route 65/US Route 36 in Livingston County, Transportation Improvements, Funding and COE Section 404 Permit, Livingston County, MO.

Summary: EPA expressed a lack of objections to the proposed project, but recommended that MoDOT evaluate compatibility of the C-1 sub-alignment, with the City of Chillicothe's draft land use plan.

ERP No. D-FHW-K53008-NV Rating EC2, Reno Railroad Corridor, Implementation of the Freight Railroad Grade Separation Improvements in the Central Portion of the City of Reno, Washoe County, NV.

Summary: EPA expressed concerns regarding the treatment of contaminated groundwater during construction, the treatment of stormwater during operation, the impact of the project on the Glendale Water Treatment Plant, PM-10 emissions during construction, and diesel emissions during operations. EPA requested the development of more stringent stormwater quality controls, fugitive dust PM-10 controls, and the reconsideration of build alternative along alternative alignments located away from heavily populated areas and riparian areas.

ERP No. D-GSA-D80030-DC Rating LO, Department of Transportation Headquarters, Proposal to Lease 1.3 to 1.35 Million Rentable Square Feet of Consolidated and Upgraded Space, Five Possible Sites, Located in the Central Employment Area, Washington, DC.

Summary: While EPA has no objection to the alternative as presented, it did request that GSA mitigate any adverse Environmental Justice impacts, impacts to historic resources/archeology, including historic views and traffic impacts on local streets that may develop as the project proceeds.

ERP No. D-NPS-B61024-MA Rating LO, Boston Harbor Islands National Recreation Area, Implementation, General Management Plan, Boston, MA.

Summary: EPA had no objections to the project described in the EIS.

ERP No. D-SFW-K99029-NV Rating EC2, Clark County Multiple Species Habitat Conservation Plan, Issuance of a Permit to Allow Incidental Take-of-79 Species, Clark County, NV.

Summary: EPA expressed concerns about mitigation that relies on increased funding and coordination for conservation measures primarily on existing public lands. EPA asked that the FEIS describe how the plan would result in improved on-the-ground conditions which would not otherwise be achieved through existing resource management plans. EPA also believes a commitment to growth which is town-centered, transit and pedestrian oriented, and has a greater mix of housing, commercial and retail uses would significantly enhance the benefits of the regional conservation planning effort. In addition, EPA urged the adoption of the 20-year permit duration versus the preferred alternative's 30-year permit.

ERP No. DS-AFS-J65287-UT Rating LO, Rhyohite Fuel Ecosystem Rehabilitation Project to the South Spruce Ecosystem Rehabilitation Project, Implementation, Dixie National Forest, Cedar City Ranger District, Iron County, UT.

Summary: Based on a limited review. EPA does not foresee having any environmental objections to the proposed project.

ERP No. RD-AFS-L61208-00 Rating EC2, Hells Canyon National Recreation Area (HCNRA), Comprehensive Management Plan, Revised and Updated Information on Five Alternatives, Implementation, Wallowa-Whitman National Forest, Nez Perce and Payette National Forests, Bake and Wallowa Counties, OR and Nez Perce and Adam Counties, ID.

Summary: EPA expressed concerns regarding potential impacts to water quality and existing impaired waterbodies. EPA recommends that the EIS include plans to obliterate roads versus closing them; a comprehensive road plan that balances environmental effects, funding constraints, and access needs and includes maintenance and monitoring elements; and a strategy to restore impaired waters that is based on the 303(d) protocol.

Final EISs

ERP No. F-AFS-L65313-ID, Silver Creek Integrated Resource Project, Implementation, Middle Fork Payette River, Boise National Forest, Boise and Valley Counties, ID.

Summary: No formal comment letter was sent to the preparing agency.

ERP No. F-AFS-L65329-AK, Skipping Cow Timber Sale, Harvesting Timber, South half of Zarembo Island, Tongass National Forest, Wrangell Ranger District.

Summary: No formal comment letter was sent to the preparing agency.

ERP No. F-BLM-L67037-ID, Dry Valley Mine—South Extension Project, Construction of two New Open Pit Mine, Special-Use-Permit, COE Section 404 Permit, Public and Private Land Used, Caribou County, ID.

Summary: EPA expressed concerns that the area surrounding the proposed project would be at risk without commitments in the ROD. EPA requested that the ROD require regular analysis and reporting of data, a strategy for dealing with unforeseen circumstances at the site, bonding adequate to reclaim the site, and clear acknowledgment that land application of wastewater has not been approved by BLM.

ERP No. F-COE-K36130-AZ, Tres Rios Feasibility Study Project, Ecosystem Restoration, Located at the Salt, Gila and Agua Fria Rivers, City of Phoenix, Maricopa County, AZ.

Summary: No formal comment letter was sent to the preparing agency.

ERP No. F-TVA-E70001-TN, Tim Ford Reservoir Land Management and Disposition Plan, Implementation, Tim Ford Reservoir, Franklin and Moore Counties, TN.

Summary: EPA continues to be concerned about potential water quality concerns involving shoreline development of the reservoir.

Dated: August 1, 2000.
Ken Mittelholtz,
Environmental Protection Specialist, Office of Federal Activities.

[FR Doc. 00-19847 Filed 8-3-00; 8:45 am]

BILLING CODE 6560-50-P